DEPARTMENT OF DEFENSE

Office of the Secretary

Department of Defense (DoD) Civilian Physicians and Dentists Clinical Specialties and Tables; Correction

AGENCY: Department of Defense.

ACTION: Notice; correction.

SUMMARY: On Friday, July 25, 2014 (79 FR 43445-43446), the Department of Defense published a notice titled Department of Defense (DoD) Civilian Physicians and Dentists Clinical Specialties and Tables. Subsequent to the publication of the notice, DoD realized that the DATES section was missing a sentence informing the public of the 30-day public comment period. The corrected DATES section is printed as set forth in this notice.

The first sentence in the SUPPLEMENTARY INFORMATION section of the published notice is also corrected to include a reference to a 90-day effective date, rather than a 60-day effective date. This notice corrects this error.

DATES: Effective dates: Revisions are effective on October 23, 2014. Comments will be accepted on or before August 25, 2014.

SUPPLEMENTARY INFORMATION: Under 38 U.S.C. 7431(e)(1)(C), amounts prescribed under paragraph 7431(e) shall be published in the Federal Register, and shall not take effect until at least 90 days after date of publication.

Dated: July 25, 2014.
Aaron Siegel,
Alternate OSD Federal Register Liaison Officer, Department of Defense.

[FR Doc. 2014-17977 Filed 7-30-14; 8:45 am]

BILLING CODE 5001-06-P